DEPARTMENT OF HOMELAND SECURITY

Transportation Security Administration

[Docket No. TSA-2004-19147]

Intent To Request Renewal From OMB of One Current Public Collection of Information: Flight Training for Aliens and Other Designated Individuals; Security Awareness Training for Flight School Employees

AGENCY: Transportation Security Administration, DHS.

ACTION: 60-day notice.

SUMMARY: The Transportation Security Administration (TSA) invites public comment on an existing information collection requirement abstracted below that will be submitted to the Office of Management and Budget (OMB) for renewal in compliance with the Paperwork Reduction Act. The collection involves conducting background checks for all aliens and other designated individuals seeking flight instruction (“candidates”) from Federal Aviation Administration (FAA)-certificated flight training providers. Through the information collected, TSA will determine whether a candidate is a threat to aviation or national security, and thus prohibited from receiving flight training or recurrent training. Additionally, flight training providers are required to conduct a security awareness program for their employees, and to maintain records associated with this training.

DATES: Send your comments by December 28, 2009.

ADDRESSES: Comments may be e-mailed to TSAPRA@dhs.gov or delivered to the TSA Paperwork Reduction Act (PRA) Officer, Office of Information Technology (OIT), TSA-40, Transportation Security Administration, 601 South 12th Street, Arlington, VA 20598-6040.

FOR FURTHER INFORMATION CONTACT: Ginger LeMay at the above address, or by telephone (571) 227-3616.

SUPPLEMENTARY INFORMATION:

Comments Invited

In accordance with the Paperwork Reduction Act of 1995 (44 U.S.C. 3501 et seq.), an agency may not conduct or sponsor, and a person is not required to respond to, a collection of information unless it displays a valid OMB control number. The Information Collection Requirement (ICR) documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Number 1652-0021; Flight Training for Aliens and Other Designated Individuals; Security Awareness Training for Flight School Employees, 49 CFR Part 1552

This is a renewal information collection request that includes background checks and fee changes for alien students requesting flight training in the United States.

Pursuant to 49 U.S.C. 44936 and 6 U.S.C. 469, TSA is required to conduct background checks for all aliens and other designated individuals seeking flight instruction with Federal Aviation Administration (FAA)-certificated flight training providers. In September 2004, TSA developed and implemented these requirements at 49 CFR part 1552, prescribing standards relating to the security threat assessment process that TSA conducts to determine whether candidates are a threat to aviation or national security and thus prohibited from receiving flight training. TSA published a notice prescribing the process to determine that an alien who takes recurrent flight training is not a risk to aviation or national security, and to impose reasonable fees for this process.¹

¹ In September 2008, Congress passed the Consolidated Security, Disaster Assistance, and Continuing Appropriations Act, 2009 (Appropriations Act of 2009), which amends 6 U.S.C. 469 and authorizes TSA to establish a process to determine that an alien who takes a recurrent flight training is not a risk to aviation or national security, and to impose reasonable fees for this process.

The collection of information required under 49 CFR part 1552 and the Appropriations Act of 2009 permits TSA to gather candidates' biographic information, which is used to perform background checks. Flight training candidates also have to submit fingerprint information for background checks. Additionally, flight training providers are required to conduct security awareness training for their employees to increase awareness of suspicious circumstances and activities of individuals enrolling in, or attending, flight training. The flight training provider may use the initial security awareness training program offered by TSA or an alternative initial training program offered by a third party, or training designed by the flight training provider itself. Each flight training provider employee must receive recurrent security awareness training each year, and flight training providers must maintain records of the training completed throughout the course of the individual's employment, and for one year after the individual is no longer a flight training provider employee.

Based on the numbers of respondents to date, TSA estimates a total of 31,000 respondents annually: 26,500 candidates and 4,500 registered flight training providers. Respondents are required to provide the subject information every time an alien or other designated individual applies for pilot training as described in the regulation, which is estimated to be twice a year per candidate, for a total of 53,000 responses per year.

TSA estimates that it will take the 26,500 candidates 45 minutes per application (twice per year) to provide TSA with all of the information required, for a total approximate application burden of 39,750 hours per year. Flight training providers must keep records for five years from the time they are created, and it is estimated each of the 4,500 flight training providers will carry an annual recordkeeping burden of 104 hours, for a total of 468,000 hours. Thus, TSA estimates the combined hour burden associated with this collection to be 507,750 hours annually.

TSA estimates an annual cost burden of $223 per application (an increase of 3% per year when compared to the $205 per application cost burden that was estimated in 2004). The annual cost burden of $223 includes a security fee of $130, for a total annual burden of $5,575,000 (12,500 Category 1-3 paying candidates × $223 per application × twice per year application). Recurrent training candidates pay a fee of $70 for a total of $1,960,000 (14,000 recurrent training candidates × $70 per application × twice per year application).

TSA estimates the yearly recordkeeping costs per flight training provider for retaining records of candidates' applications and its employees' security awareness training files is estimated to remain the same per record as previously estimated at $1,500 for a total annual cost burden of 6,750,000 million ($1,500 × 4,500). TSA estimates the recordkeeping cost burden for flight training providers that do not register with TSA is negligible.

The current combined annual cost burden to all respondents associated with this collection is estimated to be $14,285,000 annually. The cost adjustments to TSA's original estimate are based on the added cost of 14,000 Category 4 recurrent training candidates estimated to apply for training twice per year; and the increase in the number of flight training providers from 3,000 to 4,500 who are subject to 49 CFR part 1552.

Issued in Arlington, VA, on October 21, 2009.
Ginger LeMay,
TSA Paperwork Reduction Act Officer, Office of Information Technology.

[FR Doc. E9-25758 Filed 10-26-09; 8:45 am]

BILLING CODE 9110-05-P